DEPARTMENT OF JUSTICE

Notice of Lodging of Proposed Consent Decrees Under the Comprehensive Environmental Response, Compensation, and Liability Act

On November 30, 2012, the United States Department of Justice lodged two proposed consent decrees with the United States District Court for the District of New Jersey in the lawsuit entitled United States v. Rexam Inc., et al., Civil Action No. 3:12-cv-07377-PGS-LHG. One of the two is a proposed consent decree between Plaintiff United States of America and Defendants International Paper Company and Georgia-Pacific Consumer Products, LP (collectively, “IP/GP”), which provides for the performance of a remedial action, pursuant to the Comprehensive Environmental Response, Compensation and Liability Act, 42 U.S.C. 9601, et seq., selected by the United States Environmental Protection Agency for the Crown Vantage Landfill Superfund Site, in Alexandria Township, Hunterdon County, New Jersey (“Site”), and payment of unreimbursed past response costs and future response costs in connection with the Site. The other is a proposed consent decree between Plaintiff United States of America and Defendant Rexam Inc. (“Rexam”), which provides for the payment of unreimbursed past response costs.

The publication of this notice opens a period for public comment on the consent decrees. Comments should be addressed to the Assistant Attorney General, Environment and Natural Resources Division, and should refer to United States v. Rexam Inc., et al., D.J. Ref. No. 90-11-3-09445. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decrees may be examined and downloaded at this Justice Department Web site: http://www.usdoj.gov/enrd/Consent_Decrees.html. We will provide paper copies of the consent decrees upon written request and payment of reproduction costs. Please mail your request and payment to: Consent Decree Library, U.S. DOJ—ENRD, P.O. Box 7611, Washington, DC 20044-7611.

Please specify the consent decree(s) requested and enclose a check or money order for $22.75 (25 cents per page reproduction cost) for the IP/GP consent decree and/or $4.75 for the Rexam consent decree.

Ronald G. Gluck,
Assistant Section Chief, Environmental Enforcement Section, Environment and Natural Resources Division.

[FR Doc. 2012-29651 Filed 12-7-12; 8:45 am]

BILLING CODE 4410-15-P